DEPARTMENT OF VETERANS AFFAIRS

Privacy Act of 1974; System of Records

AGENCY: Veterans Health Administration (VHA), Department of Veterans Affairs (VA).

ACTION: Rescindment of a System of Records.

SUMMARY: VA is rescinding an outdated system of records entitled, “National Chaplain Management Information System (NCMIS)-VA” (84VA111K).

DATES: The system was discontinued on September 1, 2009, and VHA stopped maintaining the records on September 1, 2016 (following the retention/destruction period). Comments on this rescindment notice must be received no later than 30 days after date of publication in the Federal Register. If no public comment is received during the period allowed for comment, or unless otherwise published in the Federal Register by VA, the rescindment will become effective a minimum of 30 days after date of publication in the Federal Register. If VA receives public comments, VA shall review the comments to determine whether any changes to the notice are necessary.

ADDRESSES: Written comments may be submitted through www.Regulations.gov; by mail or hand-delivery to Director, Regulation Policy and Management (00REG), Department of Veterans Affairs, 810 Vermont Avenue NW, Room 1064, Washington, DC 20420; or by fax to (202) 273-9026 (not a toll-free number). Comments should indicate that they are submitted in response to the National Chaplain Management Information System (NCMIS)-VA. Copies of comments received will be available for public inspection in the Office of Regulation Policy and Management, Room 1063B, between the hours of 8:00 a.m. and 4:30 p.m. E.S.T., Monday through Friday (except holidays). Please call (202) 461-4902 for an appointment. (This is not a toll-free number.) In addition, comments may be viewed online at www.Regulations.gov.

FOR FURTHER INFORMATION CONTACT: Stephania Griffin, VHA Privacy Officer, Department of Veterans Affairs, 810 Vermont Avenue NW, Washington, DC 20420; telephone (704) 245-2492.

SUPPLEMENTARY INFORMATION: Categories of individuals covered by the system were: Chaplain Service staff, applicants for VA chaplain positions (VA employees and individuals seeking VA employment), and selected providers of services to the VA chaplaincy. Records were maintained in electronic and paper form. Each format may have included names, social security numbers, or other assigned identifiers of the individuals on whom they were maintained.

This system of records notice is being rescinded since VA no longer maintains these records. The VA National Chaplain Center disestablished the National Chaplain Management Information System Records on September 1, 2009. This electronic records information system and records associated with the system were destroyed per Record Control Schedule (RCS) 10-1, chapter 1, Subject Identification Code 1120 item 6, National Chaplain Management Information System Records, NARA job # (N1-015-95-1). This was done with the authority of the National Chaplain Center and the VA Office of Information and Technology in accordance with the Privacy Act of 1974. This system was last published in the Federal Register on May 8, 2009, at 74 FR 21746.

Signing Authority

The Senior Agency Official for Privacy approved this document and authorized the undersigned to sign and submit the document to the Office of the Federal Register for publication electronically as an official document of the Department of Veterans Affairs. James P. Gfrerer, Assistant Secretary for Information and Technology and Chief Information Officer, Department of Veterans Affairs approved this document on April 5, 2019 for publication.

Dated: June 25, 2019.
Amy L. Rose,
Program Analyst, VA Privacy Service, Office of Information Security, Office of Information and Technology, Department of Veterans Affairs.

SYSTEM NAME AND NUMBER

“National Chaplain Management Information System (NCMIS)-VA” (84VA111K)

HISTORY

Last full publication provided in 74 FR 21746 dated May 8, 2009.

[FR Doc. 2019-13876 Filed 6-27-19; 8:45 am]

BILLING CODE P